DEPARTMENT OF STATE

[Public Notice: 12378]

Privacy Act of 1974; System of Records

AGENCY: Department of State.

ACTION: Rescindment of a system of records notice.

SUMMARY: The Personality Index to the Central Foreign Policy Records, State-29, which is being rescinded, was a search tool component of the State Archiving System (SAS). It served as a centralized index of individuals involved in all phases of foreign policy establishment, discussion, and definition. This index also functioned as a record of individuals utilizing the Department's services, including those overseas.

DATES: The personality index search tool was disposed of in May 2020 when the State Archiving System (SAS) was decommissioned.

ADDRESSES: Questions can be submitted by mail, email, or by calling Ereney A. Hadjigeorgalis, the Senior Agency Official for Privacy on (202) 485-2051. If by mail, please write to: U.S Department of State; Office of Global Information Services, A/GIS; Room, 4534, 2201 C St. NW; Washington, DC 20520. If by email, please address the email to the Senior Agency Official for Privacy, Ereney A. Hadjigeorgalis, at Privacy@state.gov. Please write “Personality Index to the Central Foreign Policy Records, State-29” on the envelope or the subject line of your email.

FOR FURTHER INFORMATION CONTACT: Ereney A. Hadjigeorgalis, Senior Agency Official for Privacy; U.S. Department of State; Office of Global Information Services, A/GIS; Room 4534, 2201 C St. NW; Washington, DC 20520 or by calling (202) 485-2051.

SUPPLEMENTARY INFORMATION: The Personality Index to the Central Foreign Policy Records, State-29, must be rescinded because it was disposed of when the State Archiving System (SAS) was decommissioned in May 2020.

SYSTEM NAME AND NUMBER:

Personality Index to the Central Foreign Policy Records, State-29.

HISTORY:

Personality Index to the Central Foreign Policy Records, State-29, was previously published at 42 FR 49716.

Ereney A. Hadjigeorgalis,
Acting Deputy Assistant Secretary, Global Information Services (A/GIS), U.S. Department of State.

[FR Doc. 2024-10933 Filed 5-17-24; 8:45 am]

BILLING CODE 4710-24-P